NATIONAL AERONAUTICS AND SPACE ADMINISTRATION

[Notice (02-058)]

NASA Advisory Council; Meeting

AGENCY: National Aeronautics and Space Administration.

ACTION: Notice of Meeting.

SUMMARY: In accordance with the Federal Advisory Committee Act, Public Law 92-463, as amended, the National Aeronautics and Space Administration announces a meeting of the NASA Advisory Council.

DATES: Tuesday, June 11, 2002, 8:00 a.m. to 6:00 p.m.; and Wednesday, June 12, 2002, 8:00 a.m. to 12:30 p.m.

ADDRESSES: National Aeronautics and Space Administration, Room MIC-7H46, 300 E Street, SW, Washington, DC 20546.

FOR FURTHER INFORMATION CONTACT: Mr. Lee Pagel, Code IC, National Aeronautics and Space Administration, Washington, DC 20546, 202/358-4621.

SUPPLEMENTARY INFORMATION: The meeting will be open to the public up to the seating capacity of the room. The agenda for the meeting is as follows:

—Agency Status on ISS Program

—NASA Education Initiative

—Discussion of Findings and Recommendations

It is imperative that the meeting be held on these dates to accommodate the scheduling priorities of the key participants.

Visitors will be requested to sign a visitors register.

Dated: May 8, 2002.
Sylvia K. Kraemer,
Advisory Committee Management Officer, National Aeronautics and Space Administration.

[FR Doc. 02-12626 Filed 5-20-02; 8:45 am]

BILLING CODE 7510-01-P